DEPARTMENT OF THE INTERIOR

National Park Service

36 CFR Part 7

RIN 1024-AD21

Gulf Islands National Seashore, Personal Watercraft Use

AGENCY: National Park Service, Interior.

ACTION: Proposed rule.

SUMMARY: The National Park Service (NPS) is proposing to designate areas where personal watercraft (PWC) may be used in Gulf Islands National Seashore, Florida and Mississippi. This proposed rule implements the provisions of the NPS general regulations authorizing park areas to allow the use of PWC by promulgating a special regulation. The NPS Management Policies 2001 directs individual parks to determine whether PWC use is appropriate for a specific park area based on an evaluation of that area's enabling legislation, resources and values, other visitor uses, and overall management objectives.

DATES: Comments must be received by May 16, 2005.

ADDRESSES: Comments on the proposed rule should be sent to the Superintendent, Gulf Islands National Seashore, 1801 Gulf Breeze Parkway, Gulf Breeze, FL 32563. Comments may also be sent by e-mail to guis@den.nps.gov. If you comment by e-mail, please include “PWC rule” in the subject line and your name and return address in the body of your Internet message. Also, you may hand deliver comments to Gulf Islands National Seashore, 1801 Gulf Breeze Parkway, Gulf Breeze, FL 32563. For additional information see “Public Participation” under SUPPLEMENTARY INFORMATION below.

FOR FURTHER INFORMATION CONTACT: Jerry Case, Regulations Program Manager, National Park Service, 1849 C Street, NW., Room 7241, Washington, DC 20240. Phone: (202) 208-4206. E-mail: jerry_case@nps.gov.

SUPPLEMENTARY INFORMATION:

Background

Additional Alternatives

The information contained in this proposed rule supports implementation of portions of the preferred alternative in the Environmental Assessment published March 2004. The public should be aware that two other alternatives were presented in the EA, including a no-PWC alternative, and those alternatives should also be reviewed and considered when making comments on this proposed rule.

Personal Watercraft Regulation

On March 21, 2000, the National Park Service published a regulation (36 CFR 3.24) on the management of personal watercraft (PWC) use within all units of the national park system (65 FR 15077). This regulation prohibits PWC use in all national park units unless the NPS determines that this type of water-based recreational activity is appropriate for the specific park unit based on the legislation establishing that park, the park's resources and values, other visitor uses of the area, and overall management objectives. The regulation banned PWC use in all park units effective April 20, 2000, except for 21 parks, lakeshores, seashores, and recreation areas. The regulation established a 2-year grace period following the final rule publication to provide these 21 park units time to consider whether PWC use should be permitted to continue.

Description of Gulf Islands National Seashore

Gulf Islands National Seashore is located in the northeastern portion of the Gulf of Mexico and includes a widely spaced chain of barrier islands extending nearly 160 miles from the eastern end of Santa Rosa Island in Florida to Cat Island in Mississippi. Other islands in the national seashore include Horn, Petit Bois, and East Ship and West Ship islands in Mississippi and a section of Perdido Key in Florida. Gulf Islands National Seashore also includes mainland tracts at Pensacola Forts and Naval Live Oaks Reservation near Pensacola, Florida, and Davis Bayou, adjacent to Ocean Springs, Mississippi. The national seashore contains 139,775.46 acres within the authorized boundary, excluding Cat Island (only a portion has been acquired as of this date). Of this total acreage, 19,445.46 acres are fastlands (above water) and 119,730 acres are submerged lands.

Gulf Islands National Seashore contains snowy-white beaches, sparkling blue waters, fertile coastal marshes, and dense maritime forests. Visitors can explore 19th century forts, enjoy shaded picnic areas, hike on winding nature trails, and camp in comfortable campgrounds. In addition, Horn and Petit Bois islands located in Mississippi are federally designated wilderness areas. Nature, history, and recreational opportunities abound in this national treasure. All areas of Gulf Islands National Seashore in the Florida District and the Davis Bayou area in the Mississippi District are reachable from Interstate 10. The Mississippi District barrier islands are only accessible by boat.

Purpose of Gulf Islands National Seashore

Gulf Islands National Seashore, Florida and Mississippi, was authorized by Act of Congress, Public Law 91-660, January 8, 1971, to provide for recognition of certain historic values such as coastal fortifications and other purposes such as the preservation and enjoyment of undeveloped barrier islands and beaches.

Gulf Islands National Seashore conserves certain outstanding natural, cultural and recreational resources along the Northern Gulf Coast of Florida and Mississippi. These include several coastal defense forts spanning more than two centuries of military activity, historic and prehistoric archaeological sites, and pristine examples of intact Mississippi coastal barrier islands, salt marshes, bayous, submerged grass beds, complex terrestrial communities, emerald green water, and white sand beaches.

Gulf Islands National Seashore was established for the following purposes:

• Preserve for public use and enjoyment certain areas possessing outstanding natural, historic, and recreational values.

• Conserve and manage the wildlife and natural resources.

• Preserve as wilderness any area within the national seashore found to be suitable and so designated in accordance with the provisions of the Wilderness Act (78 Stat. 890).

• Recognize, preserve, and interpret the national historic significance of Fort Barrancas Water Battery (Battery San Antonio), Fort Barrancas; Advanced Redoubt of Fort Barrancas at Pensacola Naval Station; Fort Pickens on Santa Rosa Island, Florida; Fort McRee site, Perdido Key, Florida; and Fort Massachusetts on West Ship Island, Mississippi, in accordance with the Act of August 21, 1935 (49 Stat. 666). That act states: “it is a National policy to preserve for public use historic sites, buildings, and objects of National significance for inspiration and benefits of the people of the United States.”

Significance of Gulf Islands National Seashore

Gulf Islands National Seashore is significant for the following reasons:

• Nationally significant historical coastal defense forts representing a continuum of development.

• Several mostly undisturbed, natural areas in close proximity to major population centers.

• Areas of natural significant high quality beaches, dunes, and water resources.

• Endangered species occur in several areas.

• Contains regionally important prehistoric archaeological sites.

• Provides outstanding controlled areas conducive to the successful reintroduction of native threatened and endangered species.

• Provides habitat for early life stages of many coastal and marine flora and fauna of commercial and recreational importance.

• Provides a benchmark to compare environmental conditions in developed areas of the Gulf Coast.

Authority and Jurisdiction

Under the National Park Service's Organic Act of 1916 (Organic Act) (16 U.S.C. 1 et seq.) Congress granted the NPS broad authority to regulate the use of the Federal areas known as national parks. In addition, the Organic Act (16 U.S.C. 3) allows the NPS, through the Secretary of the Interior, to “make and publish such rules and regulations as he may deem necessary or proper for the use and management of the parks * * * ”

16 U.S.C. 1a-1 states, “The authorization of activities shall be conducted in light of the high public value and integrity of the National Park System and shall not be exercised in derogation of the values and purposes for which these various areas have been established * * *”

As with the United States Coast Guard, NPS’ regulatory authority over waters subject to the jurisdiction of the United States, including navigable waters and areas within their ordinary reach, is based upon the Property and Commerce Clauses of the U.S. Constitution. In regard to the NPS, Congress in 1976 directed the NPS to “promulgate and enforce regulations concerning boating and other activities on or relating to waters within areas of the National Park System, including waters subject to the jurisdiction of the United States * * *” (16 U.S.C. 1a-2(h)). In 1996 the NPS published a final rule (61 FR 35136; July 5, 1996) amending 36 CFR 1.2(a)(3) to clarify its authority to regulate activities within the National Park System boundaries occurring on waters subject to the jurisdiction of the United States.

PWC Use at Gulf Islands National Seashore

Personal watercraft use emerged at Gulf Islands National Seashore in the 1980s. Although PWC use was a small percentage of total boat use within the national seashore, park staff believes that use had increased over the five years prior to the closure. If reinstated, PWC use at the national seashore is not expected to decrease. In fact, an increase in usage would be expected as more residents purchase personal watercraft and tourism continues to grow.

Prior to the closure to personal watercraft in April 2002, personal watercraft were recognized as a Class A motorboat and were treated as any other such vessel. All regulations that apply to any registered vessel operating in waters of Florida and Mississippi that are regulated by the NPS applied to personal watercraft.

Personal watercraft were permitted throughout the national seashore, except as follows: no motorized vessels are permitted above the mean high tide line on the designated wilderness islands of Horn and Petit Bois; the lakes, ponds, lagoons and inlets of East Ship Island, West Ship Island, Horn Island, Petit Bois Island, and Cat Island (lands under NPS management) are closed to the use of motorized vessels; the lagoons of Perdido Key within Big Lagoon are closed to all combustion engines; and the areas 200 feet from the remnants of the old fishing pier and 200 feet from the new fishing pier at Fort Pickens are closed to all boating operations. There are also seasonal closures to watercraft to protect nesting shorebirds and other sensitive wildlife and relict dunes.

Perdido Key in Florida and East Ship and West Ship islands in Mississippi have the most concentrated boating use within the national seashore. Many area residents in both States have boat docks and own boats or personal watercraft, and visit the national seashore.

Florida District. In Florida, the park is situated between the Gulf of Mexico and the Pensacola Bay system. Although the Gulf offers almost unlimited area for personal watercraft use, most operation occurs within the bay. In 2000, personal watercraft comprised 12.5% of all registered vessels statewide. In the Florida District of the park, it is estimated that personal watercraft comprised 0.5% of recreational boating. Personal watercraft traversed along the north shoreline of Santa Rosa Island while very few traversed the south, or Gulf, shoreline. In general, PWC usage within the Florida District of the park was concentrated in the Perdido Key area. During the summer months, most areas of PWC use consisted of 6 or 7 personal watercraft per month, while on a peak-use day PWC activity in the Perdido Key area might have comprised 25 personal watercraft. The reason for the higher use in the Perdido Key area is the sheltered nature of the area and the proximity to residences with launching facilities.

Mississippi District. The Mississippi portion of the park separates the Gulf of Mexico from the Mississippi Sound. Personal watercraft account for 6% of the registered boats in Mississippi, and it is estimated that they comprised approximately 4% of recreational boating in the Mississippi District of the park. The islands are situated between 6 to 14 miles from the mainland, weather conditions can change quickly, and large ships use the intracoastal waterway shipping channels. These factors combined to limit PWC use in the Mississippi District as transportation to the islands, and use of Gulfside waters was almost nonexistent except immediately adjacent to the islands. Observations of PWC use indicate that they were mainly used for recreational riding and not for transportation. Most personal watercraft used in the Mississippi District of the park were towed by larger boats from the Pascagoula/Biloxi/Gulfport, Mississippi, area. The primary use season reflects overall visitation patterns, with use decreasing during the winter months.

PWC use areas are similar to general motorboat use areas. Personal watercraft were concentrated mostly on the east and west tips of the islands, around the West Ship Island Pier, and the entire north side of Spoil Island.

Resource Protection and Public Use Issues

Gulf Islands National Seashore Environmental Assessment

As a companion document to this proposed rule, NPS has issued the Gulf Islands National Seashore, Personal Watercraft Use Environmental Assessment. The Environmental Assessment (EA) was open for public review and comment from April 19, 2004 to May 18, 2004. Copies of the environmental assessment may be downloaded at http://www.nps.gov/guis/pphtml/documents.html or obtained at park headquarters Monday through Friday, 8 a.m. to 4:30 p.m. Mail inquiries should be directed to park headquarters: Gulf Islands National Seashore, 1801 Gulf Breeze Parkway, Gulf Breeze, FL 32563.

The purpose of the environmental assessment was to evaluate a range of alternatives and strategies for the management of PWC use at Gulf Islands to ensure the protection of park resources and values while offering recreational opportunities as provided for in the National Seashore's enabling legislation, purpose, mission, and goals. The analysis assumed alternatives would be implemented beginning in 2002 and considered a 10-year period, from 2002 to 2012.

The environmental assessment evaluates three alternatives concerning the use of personal watercraft at Gulf Islands:

• The no-action alternative would continue the prohibition of PWC use in Gulf Islands National Seashore. No special rule would be promulgated.

• Alternative A would reinstate PWC use under a special NPS regulation as previously managed.

• Alternative B would reinstate PWC use under a special NPS regulation with additional management prescriptions.

Based on the environmental analysis prepared for PWC use at Gulf Islands, alternative B is considered the environmentally preferred alternative because it would best fulfill park responsibilities as trustee of this sensitive habitat; ensure safe and healthy, productive, and aesthetically and culturally pleasing surroundings; and attain a wider range of beneficial uses of the environment without degradation, risk to health or safety, or other undesirable and unintended consequences.

This document proposes regulations to implement alternative B at Gulf Islands National Seashore.

The NPS will consider the comments received on this proposal, as well as the comments received on the Environmental Assessment when making a final determination. In the final rule, the NPS will implement alternative B as proposed, or choose a different alternative or combination of alternatives. Therefore, the public should review and consider the other alternatives contained in the Environmental Assessment when making comments on this proposed rule.

The following summarizes the predominant resource protection and public use issues associated with PWC use at Gulf Islands National Seashore. Each of these issues is analyzed in the Gulf Islands National Seashore, Personal Watercraft Use Environmental Assessment.

Water Quality

Most research on the effects of personal watercraft on water quality focuses on the impacts of two-stroke engines, and it is assumed that any impacts caused by these engines also apply to two-stroke engines in personal watercraft. Two-stroke engines (and some personal watercraft) discharge a gas-oil mixture into the water. Fuel used in many PWC and motorboat engines contains many hydrocarbons, including benzene, toluene, ethylbenzene, and xylene (collectively referred to as BTEX). Polycyclic aromatic hydrocarbons (PAHs) also are released from boat engines, including those in personal watercraft. These compounds are not found appreciably in the unburned fuel mixture, but rather are products of combustion. Discharges of all these compounds—BTEX and PAHs—have potential adverse effects on aquatic life and human health if present at high enough concentrations. A common gasoline additive, methyl tertiary butyl ether (MTBE) also is released with the unburned portion of the gasoline. In 2001, premium grade fuel (octane of 90 and higher) in Florida had MTBE concentrations ranging from 0% to 10.8% of the fuel mixture, with an average of 3.5%; no data was available for Mississippi. For this assessment, it was assumed that the concentration of MTBE in fuel used by all vessels in the Florida and Mississippi districts is 3.5%. There are no plans to ban the use of MTBE in fuels in Florida or Mississippi. The PWC industry suggests that although some unburned fuel does enter the water, the fuel's gaseous state allows it to evaporate readily.

A typical conventional (i.e., carbureted) two-stroke PWC engine discharges as much as 30% of the unburned fuel mixture into the exhaust. At common fuel consumption rates, an average two-hour ride on a personal watercraft may discharge 3 gallons (11.34 liters) of fuel into the water. According to data from Personal Watercraft Illustrated and the Environmental Protection Agency, an average 2000 model-year personal watercraft can discharge between 3.8 and 4.5 gallons of fuel during one hour at full throttle. (As described in appendix A of the Environmental Assessment, an estimated discharge rate of 3 gallons per hour is used in the water quality impact calculations.)

Florida District. Under the proposed regulation, based on alternative B in the Environmental Assessment, PWC use would be reinstated in all waters within the Florida District as previously managed under the Superintendent's Compendium, and all State regulatory requirements would apply. In addition, a PWC flat wake zone would be established a minimum of 300 yards from all park shorelines. PWC flat wake speed engine emissions were assumed to be negligible; therefore it was assumed that the same number of PWC-hours of full-throttle use under alternative A in the three areas would occur, but only beyond 300 yards of park shorelines. This effectively reduces the available water volume for diluting PWC engine emissions.

The results of the water quality analysis for PWC activity shows that for all discharged pollutants evaluated, the ecotoxicological threshold volumes estimated for 2002 and 2012 would be well below volumes of water available at the three areas. Threshold volumes range from 0.1 to 260 acre-feet, while water volumes accessible to personal watercraft under this alternative range from 13,010 to 301,704 acre-feet. Impacts to aquatic organisms are expected to be negligible for all pollutants evaluated.

Threshold volumes for human health benchmarks of benzo(a)pyrene and benzene are also well below volumes of water available at the three areas in 2002 and 2012. Threshold volumes range from 7 to 310 acre-feet, while water volumes available to personal watercraft range from 13,010 to 301,704 acre-feet. Impacts to human health are expected to be negligible for all pollutants evaluated. Mixing, flushing, and the resulting dilution of park waters by adjacent waters would further reduce pollutant concentrations. Tidal currents at the Pensacola Bay entrance reach a speed of 4.1 knots. Incoming tides increase the available water volume, especially at the Big Lagoon area of Perdido Key where the average depth is less than 8 feet. Outgoing tides transport soluble pollutants out of park waters to the Gulf of Mexico.

Mississippi District. Under the proposed regulation, PWC use would be reinstated in all waters within the Mississippi District as previously managed under the Superintendent's Compendium, and all State regulatory requirements would apply. In addition, a PWC flat wake zone would be established 300 yards from park shorelines at West Ship, East Ship, and Spoil Islands and 0.5 mile from Horn and Petit Bois Islands and West Ship Island pier. PWC flat wake speed engine emissions were assumed to be negligible, so it was assumed that the same number of PWC-hours of full-throttle use under alternative A in Mississippi Sound and in Gulf-side waters would occur, but only beyond the flat wake boundary. This effectively reduces the available water volume for diluting PWC engine emissions.

The results of the water quality analysis for PWC activity shows that for all discharged pollutants evaluated, the ecotoxicological threshold volumes estimated for 2002 and 2012 would be well below volumes of water available at both areas. Threshold volumes range from 2 to 1,800 acre-feet, while water volumes available to PWC use range from 183,665 to 273,952 acre-feet. Impacts to aquatic organisms are expected to be negligible for all pollutants evaluated.

Threshold volumes for human health benchmarks of benzo(a)pyrene and benzene are also well below volumes of water available at both areas in 2002 and 2012. Threshold volumes range from 140 to 2,200 acre-feet, while volumes available to PWC use range from 183,665 to 273,952 acre-feet. Impacts to human health are expected to be negligible for all pollutants evaluated. Mixing, flushing, and the resulting dilution of park waters by adjacent waters would further reduce pollutant concentrations. Incoming tides increase the available water volume, especially in shallow areas. Outgoing tides transport soluble pollutants out of park waters to Mississippi Sound and the Gulf of Mexico.

Conclusion. Under the proposed regulation, water quality impacts from PWC use based on ecotoxicological and human health benchmarks would be negligible adverse for all pollutants in all areas of the national seashore in 2002. In 2012, although PWC use is projected to increase more rapidly than non-PWC use, all water quality impacts from PWC use are expected to remain negligible due to reduced emission rates of newer technology engines.

In 2002, personal watercraft contributed approximately 30% of the cumulative emissions from all motorized watercraft, and in 2012, personal watercraft will contribute approximately 50% of the cumulative emissions. Impacts would still be negligible for all pollutants in all areas of the national seashore in 2002 and 2012. At most, cumulative impact threshold volumes would constitute less than 5% of the volume available to personal watercraft. In 2012, even with increased motorcraft use, cumulative water quality impacts from all watercraft are expected to be lower than in 2002 due to reduced emission rates. It is recognized that the current phase-in of cleaner running engine technologies by the Personal Watercraft Industry should result in a reduced amount of water pollutants and an overall reduction of hydrocarbon emissions.

Implementation of this proposed regulation would not result in an impairment of water quality.

Air Quality

Personal watercraft emit various compounds that pollute the air. Up to one third of the fuel delivered to the typical two-stroke carbureted PWC engine is unburned and discharged; the lubricating oil is used once and is expelled as part of the exhaust; and the combustion process results in emissions of air pollutants such as volatile organic compounds (VOC), nitrogen oxides (NOX), particulate matter (PM), and carbon monoxide (CO). Personal watercraft also emit fuel components such as PAH that are known to cause adverse health effects.

Even though PWC engine exhaust is usually routed below the waterline, a portion of the exhaust gases go into the air. These air pollutants may adversely impact park visitor and employee health as well as sensitive park resources. For example, in the presence of sunlight VOC² and NOX emissions combine to form ozone (O3). O3 causes respiratory problems in humans, including coughs, airway irritation, and chest pain during inhalations. O3 is also toxic to sensitive species of vegetation. It causes visible foliar injury, decreases plant growth, and increases plant susceptibility to insects and disease. CO can affect humans as well. It interferes with the oxygen carrying capacity of blood, resulting in lack of oxygen to tissues. NOX and PM emissions associated with PWC use can degrade visibility. NOX can also contribute to acid deposition effects on plants, water, and soil. However, because emission estimates show that NOX from personal watercraft are minimal (less than 5 tons per year), acid deposition effects attributable to PWC use are expected to be minimal. It is recognized that the current phase-in of cleaner running engine technologies by the Personal Watercraft Industry should result in a reduced amount of air pollutants and an overall reduction of hydrocarbon emissions.

Impacts to human health. Under the proposed regulation, the use of the national seashore by personal watercraft would be reinstated with some additional restrictions to the management strategies in force prior to the closure. The additional restrictions would establish a flat wake zone 300 yards from all park shorelines at the low-water mark, except at the West Ship Island Pier and around all designated wilderness boundaries where a 0.5-mile flat wake zone would be established. Furthermore, no PWC operation would be permitted within 200 feet of non-motorized watercraft and people in the water. Human-health air quality impacts from the proposed regulation would be the same as described for alternative A for 2002 and 2012 in both Florida and Mississippi and would be negligible for CO, PM10, HC, and NOX. The human health risk from PAH would also be negligible in 2002 and 2012. The additional restrictions would not change the type of personal watercraft in use, nor increase or decrease the number of personal watercraft forecasted or their daily duration of use between 2002 and 2012.

Because no reduction in PWC use is expected, the proposed regulation would result in the same air quality impacts to human health from PWC emissions as alternative A. The additional management prescriptions would not noticeably affect PWC emissions as compared to alternative A; therefore, the total increase in emissions resulting from alternative A shown in tables 40 and 41 of the Environmental Assessment for the Florida and Mississippi districts, respectively, is the same for the proposed regulation. Negligible adverse impacts from PWC emissions for CO, PM10, HC, and NOX would occur for 2002 and 2012 in both the Florida and Mississippi districts. The risk from PAH would also be negligible in 2002 and 2012.

Cumulative adverse impacts from PWC and other boating emissions at the national seashore would be the same as for alternative A. In the Florida District, adverse impacts to human health from air pollutants in 2002 would be negligible for PM10 and NOX and moderate for CO and HC. In 2012, levels would remain negligible for PM10 and NOX, and moderate for CO and HC. In the Mississippi District, impacts would be minor for CO and negligible for PM10, HC, and NOX, in 2002. In 2012, CO impact would increase to moderate; and impacts for the other pollutants would remain at 2002 levels. Regional ozone emissions would improve due to a reduction in HC emissions. The proposed regulation would have negligible adverse impacts to human health air quality conditions, with future reductions in PM10 and HC emissions due to improved emission controls. The PWC contribution to emissions of HC is estimated to be less than 1% of the cumulative boating emissions in 2002 and 2012. All impacts would be long term.

Implementation of the proposed regulation would not result in an impairment of air quality as it relates to human health.

Impacts to air quality related values. Under the proposed regulation, the annual number of personal watercraft using the Gulf Islands National Seashore would be the same as alternative A for both the Florida and Mississippi districts. Additional management prescriptions under the proposed regulation, including flat wake restrictions, would not affect PWC use numbers and potential future increases. The predicted emission levels and impacts of continued PWC use to air quality related values would be the same as those described for alternative A based on annual emission rates. Impacts to air quality related values from PWC in 2002 and 2012 would be minor.

The impacts of the proposed regulation on air quality related values would be the same as alternative A. Emissions of each pollutant would be less than 50 tons per year in both 2002 and 2012. Minor adverse impacts to air quality related values from PWC would occur in both 2002 and 2012 in both districts of the national seashore. In both 2002 and 2012, adverse impacts from cumulative emissions from motorized boats and PWC would be moderate in the Florida District, and minor in the Mississippi District. This conclusion is based on calculated levels of pollutant emissions, regional SUM06 values, and the lack of observed visibility impacts or ozone-related plant injury in the national seashore.

Implementation of the proposed regulation would not result in an impairment of air quality related values.

Soundscapes

The primary soundscape issue relative to PWC use is that other visitors may perceive the sound made by personal watercraft as an intrusion or nuisance, thereby disrupting their experiences. This disruption is generally short term because personal watercraft travel for a relatively short time along the shore and spend most of the time in outlying areas. However, PWC occasionally congregate in popular shoreline areas with other visitors, and as PWC use increases, related noise may become more of an issue, particularly during certain times of the day. Additionally, visitor sensitivity to PWC noise varies from fisherman (more sensitive) to swimmers at popular beaches (less sensitive).

The biggest difference between noise from personal watercraft and noise from motorboats is that PWC continually leave the water, which magnifies noise in two ways. Without the muffling effect of water, the engine noise is typically 15 dBA louder and the smacking of the craft against the water surface results in a loud “whoop” or series of them. With the rapid maneuvering and frequent speed changes, the impeller has no constant “throughput” and no consistent load on the engine. Consequently, the engine speed rises and falls, resulting in a variable pitch. This constantly changing sound is often perceived as more disturbing than the constant sound from motorboats.

PWC users tend to operate close to shore, to operate in confined areas, and to travel in groups, making noise more noticeable to other recreationists (e.g., if identical boats emit 75 dB, two such boats together would be expected to emit 78 dB, three boats together would emit 80 dB). Motorboats traveling back and forth in one area at open throttle or spinning around in small inlets also generate complaints about noise levels; however, most motorboats tend to operate away from shore and to navigate in a straight line, thus being less noticeable to other recreationists.

Under this proposed regulation, based on alternative B in the Environmental Assessment, a special regulation would be written to reinstate personal watercraft use. Additional management strategies would mitigate watercraft safety concerns, protect natural and cultural resources, and enhance overall visitor experience.

PWC use would follow the same patterns assumed in alternative A; however, the proposed regulation would implement flat wake zoning for personal watercraft to help minimize the effects of PWC noise to park visitors, including anglers and near shoreline users of the swimming, picnic, and camping areas. The magnitude of noise near the speed restriction areas would be dependent on the changes in location and speed of the personal watercraft. As described in the analysis for alternative A in the Environmental Assessment, a reduction from 40 mph to 20 mph would reduce PWC noise levels approximately 5 dBA. Noise reductions would occur with reductions in speed limits below 20 mph. Increasing the distance from the personal watercraft to the listener from 100 to 200 feet would result in a noise reduction of about 6 dBA.

The types of adverse impacts to the soundscape of Gulf Islands National Seashore would be generally the same as alternative A because of the type of sound. However, the level of impact would be less due to increased distances between the PWC activity and shoreline activity. Overall, negligible to minor adverse impacts would result from PWC use on the soundscape of the national seashore. Impacts would generally be short in duration but occur over the long-term. Although they could periodically be more frequent at shoreline areas on very high use days where motorized watercraft noise may predominate for most of the day, most visitors to Gulf Islands National Seashore during those high use periods expect to hear motorized craft during the day, as the seashore is known for providing this type of recreational opportunity in addition to other activities. Since motorized noise would be expected to be infrequent and at low levels due to use restrictions, minor adverse impacts might occur if PWC users choose to operate in areas of the park that are away from launch areas and campgrounds, and where shoreline visitors would be anticipating a quiet, wilderness experience such as at Horn and Petit Bois Islands. As in alternative A, impacts could potentially increase if the noise output on newer engines does not decrease substantially enough to overcome the increase in PWC use.

Noise from personal watercraft would be short-term in duration but would be expected to occur over the long-term. Impacts would be negligible to minor adverse depending on the location, within the unit, the time of day, and the time of year. Flat wake zoning would reduce noise levels from PWC in shoreline areas, specifically those areas around Horn and Petit Bois Islands. Impact levels would relate to the number of personal watercraft operating as well as the sensitivity of other visitors and could potentially increase by 2012 based on noise levels of newer engine technology.

Cumulative adverse noise impacts from personal watercraft and other watercraft, commercial boats, and aircraft would be negligible to moderate. Impacts would be short in duration but occur over the long-term because of the high volume of annual boating use, and could increase with increased boating use in the future.

Implementation of the proposed regulation would not result in an impairment of the park's soundscape.

Shoreline and Submerged Aquatic Vegetation

Personal watercraft are able to access areas that other types of watercraft may not, which may cause direct disturbance to vegetation. Indirect impact to shoreline vegetation may occur through trampling if operators disembark and engage in activities on shore. In addition, wakes created by personal watercraft may affect shorelines through erosion by wave action.

Under the proposed regulation, PWC use would be reinstated in all waters within the national seashore as previously managed under the Gulf Islands National Seashore Superintendent's Compendium, and all State regulatory requirements would apply. In addition, a flat wake zone would be established 300 yards from all park shorelines except around the West Ship Island Pier and around wilderness boundaries (Horn and Petit Bois Islands) where 0.5-mile flat wake zones would be in effect. The flat wake zoning component of the management prescriptions under the proposed regulation would minimize both erosion effects from PWC induced wave action and direct PWC disturbance to shoreline marsh and dune communities. These impacts would be adverse and negligible under the proposed regulation. Minor adverse impacts from PWC use to emergent vegetation communities within the national seashore would result from visitor disturbance to dune communities as a result of PWC access. Overall, PWC use would have negligible to minor adverse impacts on shoreline vegetation communities within the national seashore.

Of the approximately 1,930 acres of potential seagrass habitat within the Florida District of the national seashore, about 1,000 acres would be open to full-throttle PWC use. In the Perdido Key area of the Florida District, where PWC use is most intense (peak use of 25 personal watercraft), only about 300 of the 640 acres of seagrass habitat would be accessible to PWC full-throttle use. Direct and indirect PWC impacts to seagrass beds would occur, but would be minimized by the wake restrictions. Potential direct impacts would include collision, uprooting, and sediment alteration. Indirect impacts would include increased turbidity, decreased available sunlight, and deposition of suspended sediment, which adversely affects the growth and health of seagrass beds. Under the proposed regulation, PWC use within the Florida District would have impacts to submerged aquatic vegetation communities that are direct and indirect, minor, and short- and long-term.

In the Mississippi District, a flat wake zone would be established 300 yards from park shorelines at West Ship, East Ship, and Spoil Islands and 0.5 mile from the shorelines at Horn and Petit Bois Islands and West Ship Island pier. Approximately 700 of the 3,300 acres of potential seagrass habitat would be accessible to full-throttle PWC use under the proposed regulation. Direct and indirect adverse PWC impacts to seagrass habitats would occur, but would be minimized by the flat wake zoning. Under the proposed regulation, PWC use within the Mississippi District would have impacts to seagrass habitats that are direct and indirect, minor, and short- and long-term.

Projected increases in PWC use within the national seashore would potentially result in higher levels of impacts in 2012 relative to 2002.

PWC use would cause negligible adverse impacts to shoreline vegetation from physical disturbance and wave action, and minor adverse impacts from visitor access to emergent shoreline vegetation communities. PWC use under the proposed regulation would have impacts to seagrass habitats that are direct and indirect, minor, and short- and long-term, because shallow water habitats in the national seashore are the preferred areas for PWC use, particularly the Perdido Key and Mississippi Sound areas. The flat wake zoning would restrict PWC impacts to about one-half of the potential seagrass habitat in Florida and one-quarter of the potential seagrass habitat in Mississippi. Therefore, the proposed regulation, based on alternative B in the Environmental Assessment, would have fewer adverse impacts to shoreline and submerged aquatic vegetation than alternative A. Cumulative impacts to shoreline vegetation would include effects from all visitor activities, including PWC use and other motorized vessels, and would be minor to moderate. Cumulative impacts to seagrass habitats associated with use by all motorized vessels would be minor to moderate locally, as motorboat use could continue to cause propeller scarring and sediment resuspension and its effects. Impacts would potentially be higher in 2012 relative to 2002 due to projected increases in PWC and other motorized watercraft use.

Implementation of this proposed regulation would not result in an impairment of shoreline or submerged aquatic vegetation.

Wildlife and Wildlife Habitat

Some research suggests that PWC use affects wildlife by causing interruption of normal activities, alarm or flight, avoidance or degradation of habitat, and effects on reproductive success. This is thought to be a result of a combination of PWC speed, noise, and ability to access sensitive areas, especially in shallow-water depths.

Waterfowl and nesting birds are the most vulnerable to personal watercraft. Fleeing a disturbance created by personal watercraft may force birds to abandon eggs during crucial embryo development stages, prevent nest defense from predators, or contribute to stress and associated behavior changes.

Impacts to sensitive species, such as the manatee and the Perdido Key beach mouse, are discussed in the “Threatened, Endangered, or Special Concern Species” section.

Under the proposed regulation, based on alternative B of the Environmental Assessment, PWC use would occur as under alternative A, with additional management prescriptions. A flat wake zone would be established 300 yards from all park shorelines, with the exception of the West Ship Island Pier, where a flat wake zone would extend 0.5 mile from the shoreline and 0.5 mile from either side of the pier. A flat wake zone would also be established 0.5 mile from the shorelines around all designated wilderness boundaries and no PWC operation would be permitted within 200 feet of non-motorized watercraft and people in the water.

Impacts to aquatic wildlife species, especially in high use areas such as the Perdido Key area, the area north of Santa Rosa Island, and Mississippi Sound would be fewer than alternative A. The proposed regulation would minimize impacts from PWC because the most shallow water habitats and considerable portions of seagrass bed habitats lie within the PWC flat wake zones prescribed by the proposed regulation. Aquatic wildlife species inhabiting shallow protected waters and seagrass beds within the flat wake zone would not be subjected to PWC full-throttle impacts. However, PWC use in areas providing essential fish habitats could disrupt normal feeding and other critical life functions of fish and shellfish species and could adversely affect suitability of these areas to meet life cycle requirements. Adverse impacts to fish and shellfish and their habitat from PWC-generated sediment resuspension and emissions may occur in these areas. Reinstating PWC use in park waters with the establishment of a PWC flat wake zone would have fewer adverse impacts than alternative A. The proposed regulation is expected to have short-term, minor, direct and indirect adverse impacts to aquatic wildlife species and habitats.

The extended flat wake zoning under the proposed regulation would minimize impacts from PWC activity to terrestrial wildlife species by restricting speed near shoreline habitat areas and thus limiting the potential for disturbance from noise and rapid approach by personal watercraft. Impacts to terrestrial mammals from PWC use would be negligible due to both the infrequent use of shoreline areas by these species and the extension of flat wake zoning.

Prior established seasonal closures of areas around avian nesting sites in conjunction with increased flat wake zoning under the proposed regulation would minimize long-term impacts to nesting individuals. Adverse impacts to avian species from PWC noise and activity within the national seashore would be negligible to minor from short-term disturbance from PWC noise and access to loafing or foraging shorebirds, wading birds, and other water birds. Osprey would also experience short-term negligible to minor adverse effects due to the potential for PWC access to disturb roosting or feeding activities.

Projected increases in PWC use within the national seashore would result in higher levels of impacts in 2012 relative to 2002.

Under the proposed regulation, flat wake zoning prescriptions would minimize impacts to shoreline wildlife within the national seashore. Reinstating PWC use in park waters while establishing a flat wake zone is expected to have short-term, minor, direct and indirect adverse impacts to aquatic wildlife species and habitats. PWC use would contribute negligible short-term adverse impacts to terrestrial mammals, and negligible to minor mostly short-term adverse impacts to avian species with primary habitat located in shoreline areas.

Cumulative impacts to aquatic and avian wildlife associated with all types of motorized vessel use are expected to be short-term, minor, direct and indirect, and adverse. There would be a slight potential for some long-term impacts to avian species if nesting individuals are disturbed to an extent that would cause individuals to relocate. Cumulative impacts to terrestrial wildlife would be negligible to minor and short term.

Impacts in 2012 would likely be higher relative to 2002 levels due to the projected increase in PWC and other motorized watercraft use within the national seashore.

Implementation of the proposed regulation would not result in impairment to aquatic or terrestrial wildlife or wildlife habitat.

Threatened, Endangered, or Special Concern Species

The same issues described for PWC use and general wildlife also pertain to special status species. Potential impacts from personal watercraft include inducing flight and alarm responses, disrupting normal behaviors and causing stress, degrading habitat quality, and potentially affecting reproductive success. In addition to wildlife, threatened, endangered, or special concern plant species are also at risk from disturbance related to PWC use. Special status species at the national seashore include federally listed threatened, endangered, or candidate species. Additionally, some species at Gulf Islands National Seashore are designated by the States of Florida and/or Mississippi as threatened, endangered, or special concern species.

Under the proposed regulation, based on alternative B of the Environmental Assessment, PWC use would occur as under alternative A, with additional management prescriptions. A flat wake zone would be established 300 yards from all park shorelines, with the exception of the West Ship Island Pier, where a flat wake zone would extend 0.5 mile from the shoreline and 0.5 mile from either side of the pier. A flat wake zone would also be established 0.5 mile from the shorelines around all designated wilderness boundaries and no PWC operation would be permitted within 200 feet of non-motorized watercraft and people in the water.

The extended flat wake zoning under the proposed regulation would minimize impacts from PWC activity to threatened and endangered species by restricting speed near shoreline habitat areas and thus limiting the potential for disturbance from noise and rapid approach by personal watercraft.

Potential impacts to special status species from PWC use within the national seashore under the proposed regulation are as follows.

Aquatic Species. PWC use may affect, but is not likely to adversely affect, the Florida manatee, Atlantic green, Kemp's ridley, Atlantic loggerhead, and alligator snapping sea turtles through collisions and noise impacts. The 300-yard PWC flat wake zone would encompass much of the shallow seagrass habitats in the Perdido Key area and north of Santa Rosa Island in the Florida District, and in Mississippi Sound in the Mississippi District where manatees and turtles may occur, thereby minimizing the chance of collisions.

The Gulf sturgeon and its designated critical habitat may be affected but are not likely to be adversely affected by PWC noise and water quality impacts, because much of this habitat in the national seashore occurs within the 300-yard PWC flat wake zone. PWC use may affect, but is unlikely to adversely affect, the State listed saltmarsh topminnow. The PWC flat wake zone restriction would eliminate full-throttle PWC use in the salt marsh and shoreline habitats of the national seashore where this fish occurs.

Terrestrial Species. Direct adverse impacts from personal watercraft to the Perdido Key beach mouse and the Santa Rosa beach mouse would be unlikely due to the nocturnal nature of both species and the general avoidance of human activity. Closures of sensitive dune ecosystems as stated in the Gulf Islands National Seashore Superintendent's Compendium would minimize the potential for indirect effects related to PWC access and resultant visitor activity in habitat areas. PWC use under the proposed regulation may affect the Perdido Key and Santa Rosa species of beach mouse, but adverse effects to the species would be unlikely.

The gopher tortoise could be potentially affected by disturbance to individuals or habitat from people with shoreline access, including PWC users. Within the national seashore, the gopher tortoise is known mainly to occur in inland locations, away from areas of PWC access, and is unlikely to be adversely affected by PWC use.

Avian Species. Flat wake zoning of personal watercraft within at least 300 yards of shoreline areas would minimize adverse impacts from PWC noise and physical disturbance to the federally or State listed bird species in both the Florida and Mississippi districts of the national seashore. Minor effects from PWC use to special status bird species may occur under the proposed regulation. As in other alternatives, seasonal closures of important nesting sites for shoreline birds reduce the potential for impacts to nesting individuals. Under the proposed regulation, the slower speeds and decreased noise from personal watercraft that would result from implementation of flat wake zoning in shoreline areas, would preclude adverse effects from PWC use within the national seashore to the bald eagle, piping plover, American peregrine falcon, brown pelican, southeastern snowy plover, least tern, southeastern American kestrel, black skimmer, reddish egret, snowy egret, and little blue heron. Any effects that would occur from PWC use would be short-term in nature and would likely result in temporary flight responses by loafing or foraging individuals.

Special Status Plants. The additional management prescriptions under the proposed regulation would not affect the accessibility of shoreline areas or reduce the potential for PWC users to disembark and explore the islands, potentially impacting special status plant species.

The affinity of the white-top pitcher plant for bogs and other wet environments precludes impacts from typical recreational exploration and trampling within either the Florida or Mississippi district of the national seashore. No effects to this species are expected to result from PWC access within the national seashore.

Within the national seashore, populations of Cruise's golden aster and Godfrey's golden aster that occur in dune communities would be the most susceptible to trampling by visitors with PWC access to the shoreline. Closures of sensitive dune communities to foot traffic as mandated by the Superintendent's Compendium would serve as a measure of protection for both Cruise's and Godfrey's golden asters from PWC user access. PWC use within the national seashore may affect, but is unlikely to adversely affect Cruise's golden aster and Godfrey's golden aster.

Visitors who gain access by personal watercraft and explore areas away from the shoreline may affect Curtiss' sandgrass. Adverse impacts are unlikely as it is not present in the open shoreline areas of the shoreline where visitor exploration and access is likely to occur.

Large-leaved jointweed may be affected but is unlikely to be adversely affected by PWC activity within the national seashore due to the isolated occurrence of the species in locations away from open shoreline areas where personal watercraft would be likely to land and to its location in the Naval Live Oaks area where PWC use would be low.

Conclusion. Reinstating PWC use within the national seashore and establishing a PWC flat wake zone would minimize the likelihood of adverse effects on threatened or endangered species in the national seashore boundaries from PWC use. PWC use may affect, but would be unlikely to adversely affect, any federally or State-listed species. In combination with prior mandated closures of sensitive habitat areas, the extension of flat wake zoning to a minimum of 300 yards from the shoreline under the proposed regulation would serve as a measure of protection against impacts from PWC use to terrestrial and avian special status species. PWC use would have no effect on the white-top pitcher plant.

Cumulative impacts to special status species from non-PWC sources would be the same as under alternative A. PWC use would contribute slightly to cumulative effects, but PWC or other visitor use and activities would not be likely to cause adverse impacts to special status species within the national seashore.

Implementation of the proposed regulation would not result in an impairment of threatened or endangered species.

Visitor Use and Experience

Some research suggests that PWC use is viewed by some segments of the public as a nuisance due to their noise, speed, and overall environmental effects, while others believe personal watercraft are no different from other watercraft and that people have a right to enjoy the sport. The primary concern involves changes in noise, pitch, and volume due to the way personal watercraft are operated. Additionally, the sound of any watercraft can carry for long distances, especially on a calm day.

Under the proposed regulation, based on alternative B of the Environmental Assessment, PWC use would be reinstated as described under alternative A, with additional management prescriptions. A flat wake zone would be established 300 yards from all park shorelines, with the exception of the West Ship Island Pier, where a flat wake zone would extend 0.5 mile from the shoreline and 0.5 mile from either side of the pier. A flat wake zone would also be established 0.5 mile from the shorelines around all designated wilderness boundaries and no PWC operation would be permitted within 200 feet of non-motorized watercraft and people in the water.

Impact on PWC Users. Under the proposed regulation, PWC use would be reinstated and all of the national seashore waters would be accessible to PWC use except where restricted. Implementation of the above mentioned flat wake areas would prohibit high speed maneuvering in these areas, but this type of activity would still be allowed outside of the flat wake areas within park waters. Compared to the baseline of no PWC use in the national seashore, the proposed regulation would have beneficial impacts on PWC users, because they would be allowed to recreate with a personal watercraft in the national seashore. However, implementation of the restrictions included in the proposed regulation would have negligible adverse impacts on the visitor experience of PWC users, because their access would be more limited.

Impact on Other Boaters. The majority of motorized boating in the Florida District occurs in Gulf waters on the south side of the islands (4,500 compared to 500 in non-Gulf waters in 2002). However, PWC favor the bay and sound areas, where waters are calm (2 PWC in Gulf waters compared to 37 in non-Gulf waters in 2002). The PWC restrictions defined by Escambia County, Florida, would also apply under alternative B, benefiting boaters in this area.

PWC are more prevalent and more evenly distributed in the Mississippi District (a total of 161 PWC in Mississippi in 2002). Conversely, far fewer boaters visit the Mississippi District (1,607 in Mississippi compared to 5,000 in Florida in 2002). East and West Ship islands experience the heaviest visitor use and boaters there would likely experience the biggest impacts. PWC concentrate in areas that boaters also prefer, usually on the east and west ends of the islands, around the West Ship Island Pier, and the north side of Spoil Island.

Under the proposed regulation, PWC would be prohibited within 200 feet of non-motorized watercraft and people in the water. The additional flat wake restrictions included the proposed regulation would also benefit motorized boaters in both districts, because they would likely share the same waters as PWC users. Therefore, impacts to motorized boaters would be long-term and adverse due to an increase in the number of vessels operating in the same space, but negligible to minor.

Personal watercraft would be operating in park waters along with non-motorized watercraft users. However, PWC would be prohibited from areas 200 feet from the old fishing pier and 200 feet from the new fishing pier at Fort Pickens. In addition, a flat wake zone would be established 300 yards from all park shorelines, except at the West Ship Island Pier, where the flat wake zone would extend 0.5 mile from the shoreline and either side of the pier. The flat wake zone would also extend 0.5 mile from the shoreline around all wilderness boundaries. PWC would also be prohibited within 200 feet of non-motorized watercraft. The proposed canoe trail along the north side of Perdido Key would provide a non-motorized boat route for canoeists and kayakers to enjoy. The canoe trail would be within the flat wake zone established 300 yards from the shoreline, providing beneficial impacts to these non-motorized boaters. In addition, park staff have received no documented complaints from non-motorized boaters concerning PWC use, and few canoeists and kayakers visit the park. Therefore, impacts to non-motorized watercraft under the proposed regulation would be long-term, adverse, and negligible to minor.

Impact on Other Visitors. Swimmers, anglers, campers, hikers, and other shoreline visitors to the national seashore would have contact with personal watercraft users. Shoreline areas that are popular with both personal watercraft and other shoreline users include the north sides of the Mississippi islands and the Perdido Key area.

Swimmers. High-density beach use occurs on Rosamond Johnson Beach at Perdido Key, Opal Beach in the Santa Rosa area, Langdon Beach at Fort Pickens, and West Ship Island. PWC use in the Florida District would likely be concentrated in the Perdido Key area primarily on the bay, or north side of the key. However, few PWC traversed the south, or Gulf shoreline, reducing the amount of adverse impacts to the Rosamond Johnson Beach (in Perdido Key), as well as Opal and Langdon Beach, where PWC use was less frequent. The proposed regulation would further restrict PWC use by establishing a flat wake zone 300 yards from all park shorelines, which would benefit swimmers at all swim beaches. The proposed regulation would also prohibit PWC use within 200 feet of people in the water. For these reasons, impacts from PWC use in the Florida District would likely be long-term, adverse, and minor.

Most PWC use in the Mississippi District would likely occur as recreational riding on the north side of the islands, as before the ban. PWC use would be concentrated on the east and west ends of the Mississippi islands and around the West Ship Island Pier. West Ship Island experiences most of the high-density beach use in the Mississippi District. However, swimming is prohibited within 200 feet of the West Ship Island Pier, and under the proposed regulation a flat wake zone would be established 0.5 mile from the shoreline and either side of the pier, minimizing some impacts to beach users in the area. Therefore, impacts to swimmers from PWC use in this area of West Ship Island would likely be long-term, adverse, and minor. In addition, a flat wake zone would also be established 0.5 mile from the shorelines around the wilderness areas of Horn and Petit Boise islands, limiting impacts to swimmers and beach users on these islands. The lakes, ponds, lagoons, and inlets of the islands in the Mississippi District would be closed to motorized vessels. These restrictions, coupled with lower visitation at the islands of Cat, East Ship, Horn, and Petit Bois, would likely result in long-term, adverse, negligible to minor impacts to swimmers in the Mississippi District.

For the reasons stated above, overall impacts to swimmers in both the Florida and Mississippi districts would be long-term, adverse, and minor.

Divers. Diving and snorkeling are common near Fort Pickens and the sea grass beds north of Santa Rosa Island, which are both in the Florida District. PWC prefer the calm waters of Santa Rosa Sound, which is north of the island, so divers there would be adversely impacted. Diving and PWC use are both prohibited within 200 feet of the Fort Pickens piers. However, snorkelers would benefit from the restriction described under the proposed regulation limiting PWC use to flat wakes 300 yards from all park shorelines. In addition, the proposed regulation would further prohibit PWC operation within 200 feet of people in the water, which would benefit both snorkelers and divers. For these reasons, impacts to divers and snorkelers would be long-term and adverse, but negligible due to the distribution of PWC, the additional restrictions imposed under the proposed regulation, and the small number of PWC users and divers that visit the park.

Anglers. Impacts to anglers would be similar to those described under alternative A of the Environmental Assessment. The same restrictions would apply to the lagoons of Perdido Key and the fishing piers at Fort Pickens. However, the proposed regulation calls for an additional flat wake zone 300 yards from all park shorelines. In addition, a flat wake zone would extend 0.5 mile from the shoreline and either side of the pier at West Ship Island, and a 0.5-mile flat wake zone would be established around the wilderness islands of Horn and Petit Bois. Although the additional flat wake restrictions would benefit anglers in all areas of the park, impacts would likely be long-term and adverse, but negligible due to additional PWC restrictions.

Campers and Hikers. Impacts to campers and hikers would be similar to those described under alternative A of the Environmental Assessment, particularly in the Florida District since most of the restrictions under the proposed regulation would apply to the Mississippi District. However, the proposed regulation calls for establishment of a flat wake zone 300 yards from all park shorelines, which would benefit all campers and hikers at the park. PWC use at Horn and Petit Bois islands in the Mississippi District would be restricted to flat wake speed 0.5 mile from the shoreline, which would benefit users of these wilderness areas. PWC operation would be limited to daylight hours in both districts, when campers may be participating in other activities.

PWC use would have long-term, negligible to minor, adverse impacts on the experience of all camping and hiking visitors due to the additional restrictions described under the proposed regulation.

Conclusion. The proposed regulation would provide overall beneficial impacts on PWC users, because they would be allowed to recreate with a personal watercraft in the national seashore, although PWC users would be required to comply with additional restrictions. Impacts of PWC use on motorized and non-motorized boaters would be negligible to minor, long-term, adverse. Impacts to swimmers would also be long-term, adverse, and minor. Impacts to divers, snorkelers, and anglers would be long-term and adverse, but negligible. PWC use would have long-term, negligible to minor, adverse impacts on the experience of all camping and hiking visitors. Overall PWC use would result in long-term, adverse, negligible to minor impacts to non-PWC users. Cumulative impacts would be long-term, adverse, and minor.

Visitor Conflict and Safety

Industry representatives report that PWC accidents decreased in some States in the late 1990s. The National Transportation Safety Board reported that in 1996 personal watercraft represented 7.5% of State-registered recreational boats but accounted for 36% of recreational boating accidents. In the same year, PWC operators accounted for more than 41% of people injured in boating accidents. PWC operators accounted for approximately 85% of the persons injured in accidents studied in 1997. Since PWC operators can be as young as 12 in several States, accidents can involve children. The American Academy of Pediatrics recommends that no one younger than 16 operate personal watercraft.

In Florida in 2000, personal watercraft comprised 12.5% of all registered vessels statewide and accounted for 32% of all boating accidents. In the Florida District in 2000, 44 boating violation citations were issued, 36% of which were to personal watercraft. An analysis of park boating violations in Mississippi from 1997 to September 2001 reveals that 58% of the violations involved a personal watercraft.

Under the proposed regulation, based on alternative B of the Environmental Assessment, PWC use would be reinstated as under alternative A, with additional management prescriptions. A flat wake zone would be established 300 yards from all park shorelines, with the exception of at the West Ship Island Pier, where a flat wake zone would extend 0.5 mile from the shoreline and 0.5 mile from either side of the pier. A flat wake zone would also be established 0.5 mile from the shorelines around all designated wilderness boundaries, and no PWC operation would be permitted within 200 feet of non-motorized watercraft and people in the water. In addition, PWC user and boater education would be provided through interpretive talks, onsite bulletins, and brochures given to PWC registrants and visitors who rent personal watercraft. These educational efforts would benefit all seashore visitors described below.

Impact on PWC Users. Under the proposed regulation, PWC use would be reinstated and all of the national seashore waters would be accessible to PWC use except where restricted. Implementation of the flat wake zones would not permit high speed maneuvering use in these areas, but this type of activity would be permitted outside these areas in park waters. However, PWC users would experience beneficial safety impacts because the restrictions would minimize conflicts and potential for accidents between PWC, other PWC, and non-PWC users. Overall, impacts to PWC users would be long-term, beneficial, and minor.

Impact on Other Boaters. The majority of motorized boating in the Florida District occurs in Gulf waters on the south side of the islands. However, PWC favor the bay and sound areas, where waters are calm. This natural distribution would help alleviate conflicts between boaters and PWC users in the Florida District.

PWC are more prevalent and more evenly distributed in the Mississippi District, which has far fewer boaters than the Florida District. East and West Ship islands experience the heaviest visitor use and boaters there would likely experience the biggest impacts. PWC concentrate in areas that boaters also prefer, usually on the east and west ends of the islands, around the West Ship Island Pier, and the north side of Spoil Island. In addition, PWC would also be prohibited within 200 feet of non-motorized watercraft in both districts. A flat wake zone would be established 300 yards from all park shorelines, except at the West Ship Island Pier, where the flat wake zone would extend 0.5 mile from the shoreline and either side of the pier. The flat wake zone would also extend 0.5 mile from the shoreline around all wilderness boundaries. These restrictions would provide additional safety measures to both PWC and motorboat users at the seashore.

For the reasons described above, impacts to motorized boaters in both districts would be long-term and adverse. However, these impacts would be negligible to minor due to the additional restrictions and PWC prohibitions defined under the proposed regulation.

PWC would interact with non-motorized boaters as well. PWC use would be prohibited 200 feet from the old fishing pier and 200 feet from the new fishing pier at Fort Pickens. The proposed canoe trail along the north side of Perdido Key would provide a safe, non-motorized boat route for canoeists and kayakers to enjoy because it would be within the flat wake zone established 300 yards from the shoreline. In addition, park staff have received no documented complaints from non-motorized boaters concerning PWC use. Nonmotorized boaters would also benefit from safety measures provided by additional restrictions described above. In addition, both Mississippi and Florida require that PWC operators use cut-off devices, which would not necessarily reduce the amount of conflict but would improve safety for non-motorized watercraft users at the seashore. Therefore, impacts to non-motorized watercraft under the proposed regulation would be long-term, adverse, and negligible to minor.

Impact on Other Visitors. Swimmers, anglers, campers, hikers, and other shoreline visitors to the national seashore would have contact with personal watercraft users. Shoreline areas that are popular with both personal watercraft and other shoreline users include the north sides of the Mississippi islands and the Perdido Key area.

Swimmers. Impacts to swimmers would be similar to those described under alternative A of the Environmental Assessment. However, the proposed regulation would further restrict PWC use by establishing a flat wake zone 300 yards from all park shorelines, which would benefit swimmers at non-designated swim beaches. The proposed regulation would also prohibit PWC use within 200 feet of people in the water, providing additional safety and reducing the likelihood of conflicts and accidents.

In addition, a flat wake zone would also be established 0.5 mile from the shorelines around the wilderness areas of Horn and Petit Bois islands, limiting impacts to swimmers and beach users on these islands. The lakes, ponds, lagoons, and inlets of the islands in the Mississippi District would be closed to motorized vessels.

Both Mississippi and Florida require that PWC operators use cut-off devices, which would not necessarily reduce the amount of conflict but would improve safety for swimmers at the seashore. Therefore, impacts to swimmers from PWC use in both districts would likely be long-term, adverse, and minor due to additional restrictions and the concentration of PWC activity to the north side of most designated swim beaches.

Anglers. Impacts to anglers would be similar to those described under alternative A of the Environmental Assessment. The proposed regulation calls for an additional flat wake zone 300 yards from all park shorelines at the low-water mark. In addition, a flat wake zone would extend 0.5 mile from the shoreline and either side of the pier at West Ship Island, and a 0.5-mile flat wake zone would be established around the wilderness islands of Horn and Petit Bois. Although the additional flat wake restrictions would benefit anglers in all areas of the park, impacts would likely be long-term and adverse, but negligible due to additional PWC restrictions.

Campers and Hikers. The Florida District receives a much higher amount of camping visitation compared to the Mississippi District. The Fort Pickens campground provides the highest number of campsites (200) but is not located on the shoreline, and primitive camping is also allowed on the east end of Perdido Key. The Davis Bayou campground in the Mississippi District provides 51 campsites. No designated campsites exist on the Mississippi islands, but backcountry camping occurs on the islands.

Backcountry campers on Perdido Key and East Ship Island would experience long-term, minor, adverse impacts from PWC use under the proposed regulation. A flat wake zone would be established 300 yards from all park shorelines, which would reduce impacts to campers and hikers. PWC use at Horn and Petit Bois islands would be restricted to flat wake speed one-half mile from the shoreline, which would benefit users of these wilderness areas. PWC operation would be limited to daylight hours in both districts, when campers may be participating in other activities.

PWC use would have long-term, minor, adverse impacts on the experience of all camping and hiking visitors due to restrictions contained under the proposed regulation and distribution of types of visitor activities.

Conclusion. Impacts to PWC users would be long-term, beneficial, and minor. Impacts to motorized and non-motorized boaters would be long-term, adverse, and negligible to minor. Swimmers would likely experience long-term, adverse, and minor impacts. Anglers in all areas of the park would likely experience long-term and adverse, but negligible impacts due to additional PWC restrictions. PWC use would have long-term, minor, adverse impacts on the experience of all camping and hiking visitors due to restrictions contained under the proposed regulation and distribution of types of visitor activities. Cumulative impacts would be adverse and minor over the short term and long term.

Cultural Resources

PWC users would have access to unknown archaeological and submerged cultural resources under the proposed regulation. Both known and undocumented submerged resources exist. Given the expanded wake restrictions under the proposed regulation, PWC use is unlikely to result in damage to submerged resources close to shore. Water depth is likely to protect other submerged resource.

Potential impacts directly attributable to unrestricted PWC use are difficult to quantify. The most likely impact to archaeological sites would result from PWC users landing in areas otherwise inaccessible to most other national seashore visitors and illegally collecting or damaging artifacts. According to park staff, looting and vandalism of cultural resources has been a problem. A direct correlation of impacts attributed to PWC users is difficult to draw, since many of these areas are also accessible to other watercraft users and visitors. Under the proposed regulation, PWC users within the national seashore would have only minor adverse impacts on listed or potentially listed archaeological resources.

Restricting areas of use and the establishment of a flat wake speed zone would serve as a measure to minimize impacts on potentially listed archaeological resources from possible illegal collection and vandalism. Cumulative impacts from other activities on archaeological resources that are readily accessible could be minor to moderate and adverse, due to the number of visitors and the potential for illegal collection or destruction.

Implementation of the proposed regulation would not result in an impairment of cultural resources.

The Proposed Rule

Under this NPRM, which is based on the preferred alternative, alternative B, a special regulation at 36 CFR 7.12 would reinstate PWC use at the national seashore. The proposed rule would include the management actions listed under alternative A, as well as additional management prescriptions under alternative B to protect natural and cultural resources, to mitigate PWC safety concerns, to provide for visitor health and safety, and to enhance overall visitor experience.

The management actions listed under alternatives A and B include the following:

1. Area of Use and Location Restrictions. PWC use would be allowed throughout the national seashore, except in areas where use restrictions for all vessels had been in place before April 22, 2002, including:

• The lakes, ponds, lagoons and inlets of East Ship Island, West Ship Island, Horn Island, Petit Bois Island and Cat Island are closed to the use of motorized vessels.

• The lagoons of Perdido Key within Big Lagoon are closed.

• The areas 200 feet from the remnants of the old fishing pier and 200 feet from the new fishing pier at Fort Pickens are closed.

• Operating a vessel in excess of 5 mph or creating a wake is prohibited within 500 feet of the Davis Bayou launch ramp, the West Ship Island Pier, the Horn Island Pier, and the Fort Pickens Pier; within the buoyed, area at Spoil (Sand) Island; and within the posted area on the north side of Perdido Key near the Fort McRee site.

• Seasonal closures within the seashore to protect wildlife and habitat as determined necessary by superintendent.

• PWC would be allowed to beach at any point along the shore not closed by the above.

The additional management restrictions under alternative B include the following:

• A flat wake zone would be expanded to 300 yards from all park shorelines with the exception of:

—At the West Ship Island Pier a flat wake zone would extend 0.5 mile from the shoreline and 0.5 mile from either side of the pier.

—Around all designated wilderness boundaries a flat wake zone would be established 0.5 mile from the shorelines.

• No PWC operation would be permitted within 200 feet of non-motorized watercraft and people in the water.

In addition, applicable State and Federal boating laws and regulations would apply to PWC operators, including regulations that address reckless or negligent operation, excessive speed, hazardous wakes or washes, hours of operation, age of driver, and distance between vessels. The boating regulations for Florida and Mississippi have been adopted by the NPS and apply to PWC use at Gulf Islands National Seashore.

Further, it is a management objective of the park staff at Gulf Islands National Seashore to promote and enhance PWC user and boater education through interpretive talks, onsite bulletins, and brochures given to PWC registrants and visitors who rent personal watercraft. Within the capabilities of staff levels and funding, the park will also seek to increase awareness and enhance enforcement of Federal laws and regulations pertaining to harassment of marine mammals through ongoing water patrols (Marine Mammal Protection Act, Endangered Species Act).

Summary of Economic Impacts: Personal Watercraft Regulations in Gulf Islands National Seashore

Alternative C, the no-action alternative, represents the baseline of this analysis. Under that alternative, all PWC use would remain prohibited in the park. Alternative A would permit PWC use as managed in the park prior to the ban and Alternative B would permit PWC use, but with additional restrictions compared with pre-ban management. All benefits and costs associated with these regulatory alternatives are measured relative to the baseline established by Alternative C. Therefore, there are no incremental benefits or costs associated with Alternative C.

The primary beneficiaries of Alternatives A and B would be the park visitors who use PWCs and the businesses that provide services to PWC users such as rental shops, restaurants, gas stations, and hotels. The present value of benefits to PWC users are estimated to range between $670,100 and $881,500 for these alternatives. The present value of benefits to PWC users for Alternatives A and B are estimated to range between $479,900 and $4,130,400. Additional beneficiaries include the individuals who use PWCs outside the park where PWC users that are displaced from the park may decide to ride if PWC use within the park were prohibited. These benefit estimates are presented in Table 1. The amortized values per year of these benefits over the ten-year timeframe are presented in Table 2.

Table 1.—Present Value of Benefits for PWC Use in Gulf Islands National Seashore, 2003-2012
[In thousands] ᵃ
| PWC users | Businesses | Total
Alternative A:
Discounted at 3% ᵇ | $881.5 | $664.6 to $4,130.4 | $1,546.1 to $5,011.9.
Discounted at 7% ᵇ | 705.3 | 511.9 to 3,181.2 | 1,217.2 to 3,886.5.
Alternative B:
Discounted at 3% ᵇ | 837.5 | 623.1 to 3,859.6 | 1,460.5 to 4,697.0.
Discounted at 7% ᵇ | 670.1 | 479.9 to 2,972.6 | 1,149.9 to 3,642.7.
ᵃ Benefits may not sum to the indicated totals due to independent rounding.
ᵇ Office of Management and Budget Circular A-4 recommends a 7% discount rate in general, and a 3% discount rate when analyzing impacts to private consumption.

Table 2.—Amortized Total Benefits per Year for PWC Use in Gulf Islands National Seashore, 2003-2012
[In thousands]
| Amortized total benefits per year ᵃ
Alternative A:
Discounted at 3% ᵇ | $181.3 to $587.5.
Discounted at 7% ᵇ | 173.3 to 553.4.
Alternative B:
Discounted at 3% ᵇ | 171.2 to 550.6.
Discounted at 7% ᵇ | 163.7 to 518.6.
ᵃThis is the present value of total benefits reported in Table 1 amortized over the ten-year analysis timeframe at the indicated discount rate.
ᵇ Office of Management and Budget Circular A-4 recommends a 7% discount rate in general, and a 3% discount rate when analyzing impacts to private consumption.

The primary group that would incur costs under Alternatives A and B would be the park visitors who do not use PWCs and whose park experiences would be negatively affected by PWC use within the park. At Gulf Islands National Seashore, non-PWC uses include boating, canoeing, fishing, and hiking. Additionally, the public could incur costs associated with impacts to aesthetics, ecosystem protection, human health and safety, congestion, nonuse values, and enforcement. However, these costs could not be quantified because of a lack of available data. Nevertheless, the magnitude of costs associated with PWC use would likely be greatest under Alternative A, and lower for Alternative B due to increasingly stringent restrictions on PWC use.

Because the costs of Alternatives A and B could not be quantified, the net benefits associated with those alternatives (benefits minus costs) also could not be quantified. However, from an economic perspective, the selection of Alternative B as the preferred alternative was considered reasonable even though the quantified benefits are somewhat smaller than under Alternative A. That is because the costs associated with non-PWC use, aesthetics, ecosystem protection, human health and safety, congestion, and nonuse values would likely be greater under Alternative A than under Alternative B. Quantification of those costs could reasonably result in Alternative B having the greatest level of net benefits.

Compliance With Other Laws

Regulatory Planning and Review (Executive Order 12866)

This document is a significant rule and has been reviewed by the Office of Management and Budget under Executive Order 12866.

(1) This rule will not have an effect of $100 million or more on the economy. It will not adversely affect in a material way the economy, productivity, competition, jobs, the environment, public health or safety, or State, local, or tribal governments or communities. The National Park Service has completed the report “'Economic Analysis of Personal Watercraft Regulations in Gulf Islands National Seashore”' (MACTEC Engineering, January 2004).

(2) This rule will not create a serious inconsistency or otherwise interfere with an action taken or planned by another agency. Actions taken under this rule will not interfere with other agencies or local government plans, policies or controls. This rule is an agency specific rule.

(3) This rule does not alter the budgetary effects of entitlements, grants, user fees, or loan programs or the rights or obligations of their recipients. This rule will have no effects on entitlements, grants, user fees, or loan programs or the rights or obligations of their recipients. No grants or other forms of monetary supplements are involved.

(4) This rule does not raise novel legal or policy issues. This rule is one of the special regulations being issued for managing PWC use in National Park Units. The National Park Service published general regulations (36 CFR 3.24) in March 2000, requiring individual park areas to adopt special regulations to authorize PWC use. The implementation of the requirement of the general regulation continues to generate interest and discussion from the public concerning the overall effect of authorizing PWC use and National Park Service policy and park management.

Regulatory Flexibility Act

The Department of the Interior certifies that this rulemaking will not have a significant economic effect on a substantial number of small entities under the Regulatory Flexibility Act (5 U.S.C. 601 et seq.). This certification is based on a report entitled “Economic Analysis of Personal Watercraft Regulations in Gulf Islands National Seashore” (MACTEC Engineering, January 2004).

Small Business Regulatory Enforcement Fairness Act (SBREFA)

This rule is not a major rule under 5 U.S.C. 804(2), the Small Business Regulatory Enforcement Fairness Act. This proposed rule:

a. Does not have an annual effect on the economy of $100 million or more.

b. Will not cause a major increase in costs or prices for consumers, individual industries, Federal, State, or local government agencies, or geographic regions.

c. Does not have significant adverse effects on competition, employment, investment, productivity, innovation, or the ability of U.S.-based enterprises to compete with foreign-based enterprises.

Unfunded Mandates Reform Act

This rule does not impose an unfunded mandate on State, local, or tribal governments or the private sector of more than $100 million per year. The rule does not have a significant or unique effect on State, local or tribal governments or the private sector. This rule is an agency specific rule and does not impose any other requirements on other agencies, governments, or the private sector.

Takings (Executive Order 12630)

In accordance with Executive Order 12630, the rule does not have significant takings implications. A taking implication assessment is not required. No taking of personal property will occur as a result of this rule.

Federalism (Executive Order 13132)

In accordance with Executive Order 13132, the rule does not have sufficient federalism implications to warrant the preparation of a Federalism Assessment. This proposed rule only affects use of NPS administered lands and waters. It has no outside effects on other areas by allowing PWC use in specific areas of the park.

Civil Justice Reform (Executive Order 12988)

In accordance with Executive Order 12988, the Office of the Solicitor has determined that this rule does not unduly burden the judicial system and meets the requirements of sections 3(a) and 3(b)(2) of the Order.

Paperwork Reduction Act

This regulation does not require an information collection from 10 or more parties and a submission under the Paperwork Reduction Act is not required. An OMB Form 83-I is not required.

National Environmental Policy Act

The National Park Service has analyzed this rule in accordance with the criteria of the National Environmental Policy Act and has prepared a draft Environmental Assessment (EA). The EA was available for public review and comment from April 19, 2004 to May 18, 2004. Copies of the environmental assessment may be downloaded at http://www.nps.gov/guis/pphtml/documents.html or obtained at park headquarters Monday through Friday, 8 a.m. to 4:30 p.m. Mail inquiries should be directed to park headquarters: Gulf Islands National Seashore, 1801 Gulf Breeze Parkway, Gulf Breeze, FL 32563.

Government-to-Government Relationship With Tribes

In accordance with the President's memorandum of April 29, 1994, “Government to Government Relations with Native American Tribal Governments” (59 FR 22951) and 512 DM 2, we have evaluated potential effects on federally recognized Indian tribes and have determined that there are no potential effects.

Clarity of Rule

Executive Order 12866 requires each agency to write regulations that are easy to understand. We invite your comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to read if it were divided into more (but shorter) sections? (A “section” appears in bold type and is preceded by the symbol “§ ” and a numbered heading; for example § 7.12, Gulf Islands National Seashore.) (5) Is the description of the rule in the “Supplementary Information” section of the preamble helpful in understanding the proposed rule? What else could we do to make the rule easier to understand?

Send a copy of any comments that concern how we could make this rule easier to understand to: Office of Regulatory Affairs, Department of the Interior, Room 7229, 1849 C Street, NW., Washington, DC 20240. You may also e-mail the comments to this address: Exsec@ios.doi.gov.

Drafting Information: The primary authors of this regulation are: Nina Kelson, Hank Snyder, and J.D. Lee, Gulf Islands National Seashore; Sarah Bransom, Environmental Quality Division; and Kym Hall and Jerry Case, NPS, Washington, DC.

Public Participation

If you wish to comment, you may submit your comments by any one of several methods. You may mail comments to Gulf Islands National Seashore, 1801 Gulf Breeze Parkway, Gulf Breeze, FL 32563. You may also comment via the Internet to: guis@den.nps.gov. Please also include “PWC Rule” in the subject line and your name and return address in the body of your Internet message. Finally, you may hand deliver comments to Gulf Islands National Seashore, 1801 Gulf Breeze Parkway, Gulf Breeze, FL 32563.

Our practice is to make comments, including names and addresses of respondents, available for public review during regular business hours. Individual respondents may request that we withhold their home address from the rulemaking record, which we will honor to the extent allowable by law. If you wish us to withhold your name and/or address, you must state this prominently at the beginning of your comment. However, we will not consider anonymous comments. We will make all submissions from organizations or businesses, and from individuals identifying themselves as representatives or officials or organizations or businesses, available for public inspection in their entirety.

List of Subjects in 36 CFR Part 7

District of Columbia, National Parks, Reporting and recordkeeping requirements.

In consideration of the foregoing, the National Park Service proposes to amend 36 CFR part 7 as follows:

PART 7—SPECIAL REGULATIONS, AREAS OF THE NATIONAL PARK SYSTEM

1. The authority for part 7 continues to read as follows:

Authority: 16 U.S.C. 1, 3, 9a, 460(q), 462(k); sec. 7.96 also issued under D.C. Code 8-137 (1981) and D.C. Code 40-721 (1981).

2. Add new paragraph (c) to § 7.12 to read as follows:

§ 7.12 Gulf Islands National Seashore.

* * * * *

(c) Personal Watercraft (PWC). (1) PWCs may operate within Gulf Islands National Seashore except in the following closed areas:

(i) The lakes, ponds, lagoons and inlets of Cat Island, East Ship Island, West Ship Island, Horn Island, and Petit Bois Island;

(ii) The lagoons of Perdido Key within Big Lagoon;

(iii) The areas within 200 feet from the remnants of the old fishing pier and within 200 feet from the new fishing pier at Fort Pickens; and

(iv) Within 200 feet of non-motorized vessels and people in the water.

(2) PWC may not be operated at greater than flat wake speed in the following locations:

(i) Within 0.5 miles from the shoreline or either side of the pier at the West Ship Island Pier;

(ii) Within 0.5 miles from the shoreline on the designated wilderness islands of Horn and Petit Bois; and

(iii) Within 300 yards from all other park shorelines.

(3) PWC are allowed to beach at any point along the shore except as follows:

(i) PWC may not beach in any restricted area listed in paragraph (c)(1) of this section; and

(ii) PWC may not beach above the mean high tide line on the designated wilderness islands of Horn and Petit Bois.

(4) The Superintendent may temporarily limit, restrict or terminate access to the areas designated for PWC use after taking into consideration public health and safety, natural and cultural resource protection, and other management activities and objectives.

Dated: February 23, 2005.
Paul Hoffman,
Acting Assistant Secretary, Fish and Wildlife and Parks.

[FR Doc. 05-4734 Filed 3-16-05; 8:45 am]

BILLING CODE 4312-52-P